DEPARTMENT OF STATE

[Public Notice 5975]

Presidential Permits Concerning Pipeline Facilities on the International Boundaries of the United States

AGENCY: Department of State.

ACTION: Notice.

Section 1(a) of Executive Order 13337, of April 30, 2004, designates and empowers the Secretary of State to “receive all applications for Presidential permits, as referred to in Executive Order 11423, as amended, for the construction, connection, operation, or maintenance, at the borders of the United States, of facilities for the exportation or importation of petroleum, petroleum products, coal, or other fuels to or from a foreign country.” Furthermore, section 1(a) of Executive Order 11423 designates and empowers the Secretary of State to receive “all applications for permits for the construction, connection, operation, or maintenance, at the borders of the United States, of: (i) Pipelines, conveyor belts, and similar facilities for the exportation or importation of all products, except those specified section 1(a) of [Executive Order 13337] to or from a foreign country; (ii) facilities for the exportation or importation of water or sewage to or from a foreign country* * *” This authority is subject to certain exceptions with respect to facilities covered by Executive Order 10485 of September 3, 1953 (concerning electric power and natural gas facilities), and Executive Order 10530 of May 10, 1954 (concerning submarine cables). section 2(b) of Executive Order 11423 and section 3(b) of Executive Order 13337 authorizes the Secretary of State to issue such further rules and regulations and to prescribe such further procedures as may from time to time be deemed necessary or desirable for the exercise of the authority conferred by the Executive Orders.

As noted in the preamble to Executive Order 11423, it is desirable to provide a systematic method of evaluation in connection with the issuance of Presidential permits. Moreover, Executive Order 13212 instructs federal agencies to expedite their review of permits for energy related projects or take other actions as necessary to accelerate the completion of such projects, while maintaining safety, public health, and environmental protections. Therefore, in accordance with Executive Orders 11423 and 13337 and in furtherance of this foreign affairs function, the Department of State plans to assemble an interagency working group, consisting of relevant State Department personnel and personnel from other interested federal agencies, to develop guidance regarding a definition of “U.S. facilities at the borders of the United States for the exportation or importation of petroleum, petroleum products, coal, or other fuels” for purposes of Presidential permits issued under Executive Order 13337, and “construction, connection, operation, or maintenance, at the borders of the United States, of facilities for the exportation or importation of water or sewage to or from a foreign country” for purposes of Presidential permits under Executive Order 11423.

The Department intends to focus in particular on what portion of an international pipeline should be considered to constitute “facilities at the borders of the United States” for these purposes. The Department is also considering whether to apply this definition to all pending and future applications for Presidential permits under section 1(a) of Executive Order 13337 and section 1(a)(i)-(ii) of Executive Order 11423, both for new pipeline proposals and for modifications to or transfers of previously-permitted pipeline facilities. (In considering this change, the Department does not intend to issue a new or amended Presidential permit with respect to a previously-permitted pipeline facility, where the application is submitted solely for the purpose of limiting the definition of “U.S. facilities” in the existing permit).

Establishing a consistent definition is expected to aid permit applicants to prepare appropriate documentation in support of applications for Presidential permits subject to section 1(a) of Executive Order 13337 and section 1(a)(i)-(ii) of Executive Order 11423. The scope of the definition would also have implications for the scope of the environmental review conducted by the Department in accordance with the National Environmental Policy Act (42 U.S.C. 4321, et. seq.), regulations issued by the Council on Environmental Quality (40 CFR Parts 1500-1508), and the Department of State's implementing regulations (22 CFR Part 161; see, in particular 22 CFR 161.7(c)(1)).

The Department's final decision and guidelines, if any, on this issue will be published in the Federal Register.

DATES: The Department of State welcomes public comment and invites those who are interested in submitting comments relative to this issue to provide such comments on or before November 29, 2007 to Jeff Izzo, International Energy Commodity Policy, Room 4843, Department of State, Washington, DC 20520, or e-mail to izzojr@state.gov.

FOR FURTHER INFORMATION CONTACT: Jeff Izzo, Office of International Energy and Commodity Policy (EEB/ESC/IEC/EPC), Room 4843, Department of State, Washington, DC 20520, telephone 202-647-1291, facsimile 202-647-4037, e-mail izzojr@state.gov.

Dated: October 23, 2007.
Stephen J. Gallogly,
Director, Office of International Energy and Commodities Policy, Department of State.

[FR Doc. E7-21324 Filed 10-29-07; 8:45 am]

BILLING CODE 4710-07-P